DEPARTMENT OF AGRICULTURE

Forest Service

Notice of Proposed New Fee Sites; Federal Lands Recreation Enhancement Act

AGENCY: Forest Service, USDA

ACTION: Notice of proposed new fee sites.

SUMMARY: The Wayne National Forest is proposing to charge a fee of $10.00 per site/per night at Hune Bridge, Lane Farm, Ring Mill, and Lamping Homestead Campgrounds. Fees are assessed based on the level of amenities and services provided, cost of operations and maintenance, and market assessment. The fees are proposed and will be determined upon further analysis and public comment. Funds from fees would be used for continued operations and maintenance and improvements to the campgrounds. An analysis of the nearby state and private campgrounds with similar amenities show that the proposed fees are reasonable for the area.

DATES: Comments will be accepted through July 28, 2017. If approved, new fees would begin approximately April 2018.

ADDRESSES: Anthony V. Scardina, Forest Supervisor, Wayne National Forest, 13700 U.S. Hwy. 33, Nelsonville, OH 45764.

FOR FURTHER INFORMATION CONTACT: Chad Wilberger, Forest Recreation Program Manager, 740-753-0884. Information about the proposed fees can also be found on the Wayne National Forest Web site: http://www.fs.usda.gov/wayne.

SUPPLEMENTARY INFORMATION: The Federal Recreation Lands Enhancement Act (Title VII, Pub. L. 108-447) directed the Secretary of Agriculture to publish a six month advance notice in the Federal Register whenever new recreation fee areas are proposed. Once public involvement is complete, these new fees will be reviewed by a Recreation Resource Advisory Committee prior to a final decision and implementation.

The Hune Bridge, Lane Farm, Ring Mill, and Lamping Homestead Campgrounds are small campgrounds (3 to 7 campsites each) that are located along State Route 26 in Washington and Monroe Counties, Ohio. They currently offer tent-only, non-electric campsites that are open year-round.

Revenue generated by the proposed fee increases would be used to leverage federal funding, grants, and partnership contributions to make the following investments and improvements: Rehabilitate tent pads and campsite spurs; stabilize the river bank along the campgrounds; construct canoe launches; upgrade picnic tables, grills, and fire rings; replace restroom facilities; and provide better signing.

Dated: March 29, 2017.
Glenn P. Casamassa,
Associate Deputy Chief, National Forest System.

[FR Doc. 2017-10953 Filed 5-25-17; 8:45 am]

BILLING CODE 3411-15-P